DEPARTMENT OF ENERGY

National Nuclear Security Administration; Notice of Availability of the Final Supplemental Environmental Impact Statement for the National Ignition Facility

AGENCY: Department of Energy, National Nuclear Security administration.

ACTION: Notice of availability.

SUMMARY: The National Nuclear Security Administration (NNSA), a semi-autonomous agency within the Department of Energy (DOE), announces the availability of the Final Supplemental Environmental Impact Statement (SEIS) for the National Ignition Facility (NIF) Project-Specific Analysis Portion (Volume III, Appendix I) of the Stockpile Stewardship and Management Programmatic Environmental Impact Statement (SSM PEIS) (DOE/EIS-0236-S1). The NIF, which is being designed as the world's most powerful laser, has been under construction at Lawrence Livermore National Laboratory (LLNL) in Livermore, California since 1997, in accordance with the SSM PEIS Record of Decision (ROD) (61 FR 68014, December 26, 1996).

In September 1997, buried capacitors containing polychlorinated biphenyls (PCBs) were discovered during site excavation for the NIF. The capacitors and contaminated soil were cleaned up to levels protective of human health and the environment in accordance with the Comprehensive Environmental Response, Compensation, and Liability Act (CERCLA) and its implementing regulations and in consultation with state and federal regulators. This SEIS analyzes how the results of characterization studies completed should affect the manner in which the NNSA proceeds with the construction and operation of NIF. The proposed action is the “No Action” alternative of continuing to construct and to operate NIF at LLNL. The SEIS also evaluates the No Action alternative of ceasing construction of the NIF. The preferred alternative is to construct and operate NIF.

DATES: A ROD for the SEIS will be issued no sooner than 30 days after the U.S. Environmental Protection Agency (EPA) publishes a Notice of Availability of the Final SEIS in the Federal Register.

ADDRESSES: To request copies of the Final NIF SEIS, or for additional information, contact: Richard Scott, Document Manager, U.S. Department of Energy, L-293, P.O. Box 808, Livermore, CA 94550. Mr. Scott may also be contacted by telephone (925) 423-3022, facsimile (925) 424-3755, or by e-mail at richard.scott@oak.doe.gov. Requests for copies of the Final NIF SEIS may also be addressed to the DOE Oakland Operations Office, Energy Information Center, 1st floor in the North Tower of the Federal Building at 1301 Clay Street in Oakland, CA, (510) 637-1762. The Final NIF SEIS is available for public review at the Oakland Operations Office; LLNL, East Gate Visitors Center on Greenville Road in Livermore CA, (925) 424-4026, and DOE's Freedom of Information Reading Room, Rm. 1E-190, 1000 Independence Avenue, SW, Washington, DC, (202) 586-3142. The Final NIF SEIS is available under the NEPA Analysis module of the DOE NEPA Web Site at http://tis.eh.doe.gov/nepa/.

FOR FURTHER INFORMATION CONTACT: For general information on the NNSA NEPA process, please contact: Mr. Henry Garson, NEPA Compliance Officer for Defense Programs, U.S. Department of Energy/NNSA, 1000 Independence Avenue, SW., Washington, DC 20585; or telephone 1-800-832-0885, ext. 30470. For general information on the DOE NEPA process, please contact: Ms. Carol M. Borgstrom, Director, Office of NEPA Policy and Compliance (EH-42), U.S. Department of Energy, 1000 Independence Avenue, SW., Washington, DC 20585, telephone 202-586-4600, or leave a message at 1-800-472-2756.

SUPPLEMENTARY INFORMATION: The Final NIF SEIS was prepared pursuant to a Joint Stipulation and Order issued by the U.S. District Court for the District of Columbia on October 27, 1997, in partial settlement of the lawsuit, Natural Resources Defense Council [NRDC] v. Richardson, Civ. No. 97-936 (SS) (D.D.C.). In that Joint Stipulation and Order, DOE agreed to prepare an SEIS evaluating the reasonably foreseeable significant adverse environmental impacts of continuing to construct and of operating NIF at LLNL with respect to any potential or confirmed contamination in the area by hazardous, toxic, and/or radioactive materials. On September 25, 1998, DOE announced its intent to prepare an SEIS for the NIF portion (Volume III, Appendix I) of the SSM PEIS (63 FR 51341). That Notice of Intent was amended on August 5, 1999 to announce a revised schedule for preparing the Draft SEIS (64 FR 42681).

The Joint Stipulation and Order required further investigations of potential buried wastes and of soil and groundwater contamination in seven site areas. The results of these investigations are as follows. Interviews and searches of historical information indicated a low probability of the existence of additional buried sources of contamination. Magnetometer, electromagnetic induction, and ground-penetrating radar surveys identified no additional potential areas of concern. In December 1998, soil sampling during routine maintenance operations identified residual PCBs in soils in the East Traffic Circle (ETC) Area from a previous landfill closure. This area is outside the NIF Construction Area. The cleanup of the buried capacitors, contaminated soils, and other, nonhazardous items found in 1997 and 1998 resulted in some minor dust emissions. The risks of cancer and noncancer health effects due to PCBs on inhaled dust from the cleanups are estimated to have been orders of magnitude below levels of concern established by the EPA. Information from LLNL's extensive groundwater monitoring program and new information in this SEIS regarding present and potential future groundwater concentrations of PCBs in the study areas indicate that PCB contamination levels are well below concentrations that would impact human health and the environment. No adverse impacts on human health or the environment would result from this low level of potential contamination.

Impacts on the environment of both alternatives—(1) continue to construct and then operate the NIF at LLNL and (2) cease construction of the NIF—are similar. Concentrations of PCBs in soil or groundwater originating from buried material would be below any level of regulatory concern for all alternatives, and therefore would not adversely affect human health.

DOE held several public hearings on the Draft NIF SEIS: Wednesday, December 1, 1999, at 2 p.m. at the U.S. Department of Energy, 1000 Independence Avenue, SW, Washington, DC; and Wednesday, December 8, 1999, at 3 p.m. and 6:30 p.m. at LLNL, 7000 East Avenue, Livermore CA. After the public comment period, which ended December 20, 1999, the Department considered and responded to the comments received, revised the Draft NIF SEIS as appropriate, and issued this Final NIF SEIS.

Copies of the Final NIF SEIS have been distributed to appropriate Congressional members and committees, the State of California, local governments, other federal agencies, and other interested parties. DOE intends to issue a ROD no sooner than 30 days following publication of the EPA Notice of Availability of the Final NIF SEIS in the Federal Register.

Issued in Washington, DC this 20th day of February, 2001.
Thomas F. Gioconda,
Brigadier General, USAF, Acting Deputy Administrator for Defense Programs, National Nuclear Security Administration, Department of Energy.

[FR Doc. 01-4641 Filed 2-23-01; 8:45 am]

BILLING CODE 6450-01-P